FEDERAL MARITIME COMMISSION

[Docket No. 03-14]

Revocation of Licenses and Order To Discontinue Operations in U.S.—Foreign Trades for Failure To Comply With the Requirements of the Ocean Shipping Reform Act of 1998; Notice of Show Cause Proceeding

November 20, 2003.

Notice is given that, on November 17, 2003, the Federal Maritime Commission (“Commission”) served an Order to Show Cause (“Order”) on fourteen (14) non-vessel-operating common carrier (“NVOCC”)/ocean transportation intermediaries (“OTIs”).

Commission regulations require that each NVOCC in the United States must be licensed and, among other requirements, file a Form FMC-1 indicating the location of its electronically published tariff. The 14 NVOCCs listed in the Commission's Order each maintain an OTI license issued by the Commission, but have otherwise failed to establish or maintain an electronically published tariff and to maintain a current Form FMC-1 on file with the Commission. The Commission now proposes to revoke the licenses of these NVOCCs for said failures, and to direct them to cease and desist from operating in the U.S.-foreign trades.

The Order directs the 14 NVOCCs to show cause why the Commission should not revoke their respective licenses for failure to comply with sections 8 and 19 of the Shipping Act of 1984, 46 U.S.C. app. § 1707 and § 1718, as amended, and 46 CFR part 515.

The Order's full text may be viewed on the Commission's Home page at http://www.fmc.gov, or at the Office of the Secretary, Room 1046, 800 N. Capitol Street, NW., Washington, DC. Any person having an interest and desiring to intervene in this proceeding shall file a petition for leave to intervene in accordance with Rule 72 of the Commission's Rules of Practice and Procedure, 46 CFR 502.72, and the procedural schedule set forth in the Commission's November 17, 2003 Order.

Bryant L. VanBrakle,
Secretary.

[FR Doc. 03-29415 Filed 11-24-03; 8:45 am]

BILLING CODE 6730-01-P